ENVIRONMENTAL PROTECTION AGENCY

[FRL-7625-5]

Recent Posting to the Applicability Determination Index (ADI) Database System of Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that the EPA has made under the New Source Performance Standards (NSPS) (40 CFR part 60), the National Emission Standards for Hazardous Air Pollutants (NESHAP) (40 CFR parts 61 and 63), and the Stratospheric Ozone Protection Program (40 CFR part 82).

FOR FURTHER INFORMATION CONTACT: An electronic copy of each complete document posted on the Applicability Determination Index (ADI) database system is available on the Internet through the Office of Enforcement and Compliance Assurance (OECA) Web site at: www.epa.gov/compliance/assistance/applicability. The document may be located by date, author, subpart, or subject search. For questions about the ADI or this notice, contact Maria Malave at EPA by phone at: (202) 564-7027, or by email at: malave.maria@epa.gov. For technical questions about the individual applicability determinations or monitoring decisions, refer to the contact person identified in the individual documents, or in the absence of a contact person, refer to the author of the document.

SUPPLEMENTARY INFORMATION:

Background

The General Provisions to the NSPS in 40 CFR part 60 and the NESHAP in 40 CFR part 61 provide that a source owner or operator may request a determination of whether certain intended actions constitute the commencement of construction, reconstruction, or modification. EPA's written responses to these inquiries are broadly termed applicability determinations. See 40 CFR 60.5 and 61.06. Although the part 63 NESHAP or Maximum Achievable Control Technology (MACT), and section 111(d) of the Clean Air Act (CAA) regulations contain no specific regulatory provision that sources may request applicability determinations, EPA does respond to written inquiries regarding applicability for the part 63 and section 111(d) programs. The NSPS and NESHAP also allow sources to seek permission to use monitoring or recordkeeping which is different from the promulgated requirements. See 40 CFR 60.13(i), 61.14(g), 63.8(b)(1), 63.8(f), and 63.10(f). EPA's written responses to these inquiries are broadly termed alternative monitoring decisions. Further, EPA responds to written inquiries about the broad range of NSPS and NESHAP regulatory requirements as they pertain to a whole source category. These inquiries may pertain, for example, to the type of sources to which the regulation applies, or to the testing, monitoring, recordkeeping or reporting requirements contained in the regulation. EPA's written responses to these inquiries are broadly termed regulatory interpretations.

EPA currently compiles EPA-issued NSPS and NESHAP applicability determinations, alternative monitoring decisions, and regulatory interpretations, and posts them on the Applicability Determination Index (ADI) on a quarterly basis. In addition, the ADI contains EPA-issued responses to requests pursuant to the stratospheric ozone regulations, contained in 40 CFR part 82. The ADI is an electronic index on the Internet with more than one thousand EPA letters and memoranda pertaining to the applicability, monitoring, recordkeeping, and reporting requirements of the NSPS and NESHAP. The letters and memoranda may be searched by date, office of issuance, subpart, citation, control number or by string word searches.

Today's notice comprises a summary of 124 such documents added to the ADI on October 31, 2003. The subject, author, recipient, date and header of each letter and memorandum are listed in this notice, as well as a brief abstract of the letter or memorandum. Complete copies of these documents may be obtained from the ADI through the OECA Web site at: www.epa.gov/compliance/assistance/applicability.

Summary of Headers and Abstracts

The following table identifies the database control number for each document posted on the ADI database system on October 31, 2003; the applicable category; the subpart(s) of 40 CFR parts 60, 61, or 63 (as applicable) covered by the document; and the title of the document, which provides a brief description of the subject matter. We have also included an abstract of each document identified with its control number after the table. These abstracts are provided solely to alert the public to possible items of interest and are not intended as substitutes for the full text of the documents.

ADI Determinations Uploaded on October 31, 2003
Control No. | Category | Subpart | Title
M030020 | MACT | LL | Compliance Extension Approval for Potlines 1-8
M030021 | MACT | LL | Primary Aluminum MACT Compliance Extension
M030022 | MACT | Y | Leak Detection and Repair (LDAR), Operation and Maintenance (O&M), and Percent Reduction Requirements
M030023 | MACT | LL | Compliance Extension
M030024 | MACT | R | Ability to Qualify as Unaffected Facility
M030025 | MACT | LL | Compliance Extension for Paste Production Plant
M030026 | MACT | LL | High Efficiency Air Filtration (HEAF) Scrubber System Parametric Monitoring Plan
M030027 | MACT | LL | HEAF Scrubber System Parametric Monitoring Plan
M030028 | MACT | LL | Compliance Extension for Paste Production Plant
M030029 | MACT | LL | Compliance Extension Approval for Potlines 1, 2, and 4
M030030 | MACT | LL | Primary Aluminum Maximum Achievable Control Technology Test Plan/Alternative Monitoring
M030031 | MACT | LL | Primary Aluminum Maximum Achievable Control Technology Test Plan/Alternative Monitoring
M030032 | MACT | LL | Test Plan—Flow Angle Measurement Testing
M030033 | MACT | RRR | Site-Specific Test Plan/Operation, Maintenance and Monitoring Plan
M030034 | MACT | N | Performance Testing and Parametric Monitoring
M030035 | MACT | S | Request for MACT I Compliance Extension
M030036 | MACT | Y, CC | Gasoline Throughput, Hazardous Air Pollutant (HAP) Emissions Applicability
M030037 | MACT | LL | Primary Aluminum MACT Test Plan/Alternative Monitoring
M030038 | MACT | LL | Primary Aluminum MACT Test Plan
M030039 | MACT | S | Compliance Extension for Pulp and Paper MACT
M030040 | MACT | S | Evaporator Condensate Streams
M030041 | MACT | S | Compliance Extension
M030042 | MACT | S | Denial of Compliance Extension Request
M030043 | MACT | S | Request for MACT I Compliance Extension
M030044 | MACT | LL | Compliance Extension for Paste Production Plant
M030045 | MACT | LL | Compliance Extension for Paste Production Plant
M030051 | MACT | MM | Alternative Monitoring Parameter for Smelt Dissolving Tank Scrubber
M030046 | MACT | N | Performance Test and Monitoring Plan
M030047 | MACT | N | Request for Source Test Waiver
M030048 | MACT | N | Requirement to Conduct Performance Test
M030049 | MACT | LL | Compliance Extension and Alternative Control Device
M030050 | MACT | LL | Alternative Control Device and Parametric Monitoring Plan
M030052 | MACT | DDD | Alternative Standard for HAP Metal Emissions
M030053 | MACT | MM | Alternative Monitoring Parameter for Recovery Furnace
M030054 | MACT | UUU | Alternative Parameter Monitoring for MACT II Continuous Opacity Monitoring Requirements
M030055 | MACT | MM | Smelt Dissolving Tank Scrubbers
M030056 | MACT | DDD | Alternative Standard for HAP Metal Emissions
M030057 | MACT | MM | Alternative Monitoring for Recovery Furnace Particulate Matter (PM)
M030058 | MACT | CC, R | Bulk Loading of Isomerate at a Refinery
M030059 | MACT | OOO | Potential to Emit Restrictions
M030060 | MACT | RRR | Melting and Alloying Aluminum Scrap in a Furnace Operation
M030061 | MACT | EEE | Alternative Monitoring for Hazardous Waste Incinerator
M030062 | MACT | EEE | Alternative Monitoring for Hazardous Waste Incinerator
Z030002 | NESHAP | E, A | Performance Test Waiver for Two Incinerators
Z030003 | NESHAP | E | Subpart E Applicability to Electric Toilets
Z030004 | NESHAP | FF | Wastewater Treatment Operations
0300048 | NSPS | GG | Custom Fuel Monitoring Schedule
0300040 | NSPS | Db | Boiler Derate through Burner Replacement
0300049 | NSPS | Dc | Applicability to Boilers Under 10 MMBtu
0300050 | NSPS | J, A | Performance Test Waiver for Heaters
0300051 | NSPS | GG | Custom Fuel Monitoring Schedule
0300052 | NSPS | KKK | Compressor Seal System Compliance
0300053 | NSPS | GG, A | Initial Performance Test Waiver for Identical Turbines
0300054 | NSPS | D | Alternative Opacity Monitoring Plan
0300047 | NSPS | D | Alternative Opacity Monitoring
0300055 | NSPS | I | Determining Dry Molecular Weight from Dryer Flue Gas
0300056 | NSPS | GG, A | Waiver of Performance Test Request
0300057 | NSPS | DD | Permanent Storage Capacity and Fugitive Emission Issues
0300058 | NSPS | Db | Predictive Emissions Monitoring System (PEMS)—Alternative Emissions Monitoring Approval Amendment
0300059 | NSPS | GG | Custom Fuel Monitoring Schedule
0300060 | NSPS | Dc | Custom Monitoring and Reporting Schedule
0300061 | NSPS | Cc | Test Plan—Nonmethane Organic Compounds Emission Rate
0300062 | NSPS | WWW | Sending Landfill Gas to Separate Entity for Combustion
0300063 | NSPS | Dc | Alternative Recordkeeping Schedule
0300064 | NSPS | GG | Custom Fuel Monitoring Schedule
0300065 | NSPS | O | Subpart O Applicability to Electric Toilets
0300066 | NSPS | Dc | Boiler Changes as NSPS Modification or Reconstruction
0300067 | NSPS | GG, A | Custom Fuel Monitoring Schedule/Alternative Test Method
0300068 | NSPS | Db, A | Alternative Opacity Monitoring
0300069 | NSPS | GG | Custom Fuel Monitoring Schedule
0300070 | NSPS | GG | Custom Fuel Monitoring Schedule
0300071 | NSPS | GG | Extension of Alternative Fuel Monitoring Schedule and Test Method
0300072 | NSPS | D, Db, A | Alternative Monitoring Plan (AMP)
0300073 | NSPS | D, A | Alternative Opacity Monitoring
0300074 | NSPS | J, A | Alternative Sulfur Monitoring Plan
0300075 | NSPS | GG, A | Performance Test Waiver
0300076 | NSPS | Db | Boiler Derate
0300077 | NSPS | GG | Custom Fuel Monitoring Schedule
0300078 | NSPS | Dc, J, A | Alternative Monitoring Plan (AMP)
0300079 | NSPS | J, A | Performance Test Requirement
0300080 | NSPS | Db | Nitrogen Oxides (NOX) Predictive Emissions Monitoring System
0300082 | NSPS | GG | Custom Fuel Monitoring Schedule
0300083 | NSPS | GG, A | Alternative Monitoring and Test Method
0300084 | NSPS | J, A | Alternative Opacity Monitoring Plan
0300085 | NSPS | I | Deviation from Performance Testing Requirements
0300086 | NSPS | GG, A | Initial Performance Test
0300087 | NSPS | GG | Alternative Monitoring Method
0300088 | NSPS | GG, A | Initial Performance Test
0300089 | NSPS | Dc | Alternative Recordkeeping Plan
0300090 | NSPS | Dc | Alternative Recordkeeping Plan
0300091 | NSPS | GG, A | Alternative Test Method and Monitoring Plan
0300092 | NSPS | GG | Alternative Test Method and Monitoring Plan
0300093 | NSPS | GG | Alternative Performance Test Procedure
0300094 | NSPS | GG, A | Alternative Testing/Monitoring & Custom Fuel Monitoring Schedule
0300095 | NSPS | Db, A | Alternative Opacity Monitoring
0300096 | NSPS | GG | Custom Fuel Monitoring
0300097 | NSPS | Db, Dc | Applicability of Subparts Db and Dc to Two Burners
0300098 | NSPS | I | Deviation from Performance Testing Requirements
0300101 | NSPS | GG, A | Performance Test for Combustion Turbine
0300102 | NSPS | Dc | Alternative Fuel Monitoring Plan Request for Boilers
0300103 | NSPS | Dc | Alternative Fuel Monitoring Plan Request for Boilers
0300104 | NSPS | D | Determining Maximum Heat Input Rating for Boiler
0300105 | NSPS | GG | Gas Turbine Definition and Modification Issues
0300106 | NSPS | Dc | Alternative Fuel Monitoring Plan Request for Boiler
0300107 | NSPS | Dc | Request to Reduce Fuel Monitoring Frequency
0300108 | NSPS | Dc | Alternative Fuel Monitoring Plan Request for Boilers
0300109 | NSPS | Db | Use of Fuel Vendor Receipts as Sulfur Monitoring
0300111 | NSPS | J | Alternative Hydrogen Sulfide (H2S) Monitoring Plan
0300112 | NSPS | GG | Nitrogen Monitoring Waiver for Stationary Gas Turbines
0300113 | NSPS | Dc | Alternative Fuel Monitoring Plan for Boilers
0300114 | NSPS | Dc | Alternative Fuel Monitoring Plan for Boilers
0300117 | NSPS | GG | Gas Turbine QC Testing Operations
0300115 | NSPS | GG | Alternative Monitoring and Testing for Combustion Turbines
0300116 | NSPS | Dc | Applicability of Subpart Dc to Process Dryer Kilns
0300118 | NSPS | Dc | Alternative Fuel Monitoring for Boilers
0300119 | NSPS | GG, Da | Alternative Testing, Monitoring and Reporting for CC Turbines
0300120 | NSPS | WWW | Applicability to Internal Combustion Engines
0300121 | NSPS | WWW | Use of Treatment System Prior to IC Engine Combustion
0300122 | NSPS | Dc | Alternative Opacity Monitoring
0300123 | NSPS | Db | Coke Oven Gas
0300124 | NSPS | VV | Equipment in Light Liquid Service
0300125 | NSPS | Cc, B | Federal Plan Requirements for Landfill Subject to the Comprehensive Environmental Response, Compensation, and Liability Act of 1990 (CERCLA)
0300126 | NSPS | Y | Applicability to Replacement of Individual Conveyors
0300127 | NSPS | Y | Applicability to Replacement of Individual Conveyors

Abstracts

Abstract for [M030020]

Q: Will EPA approve a request for a compliance extension for eight center-worked prebake two (CWPB2) potlines at Kaiser's Mead Works?

A: Yes. EPA approves this request, subject to the terms and conditions in the letter. EPA finds that an additional period of time is necessary for installation of controls in order to comply with the Primary Aluminum MACT.

Abstract for [M030021]

Q: Does EPA concur with Oregon Department of Environmental Quality (ODEQ) grant of a one-year compliance extension to install compliance testing equipment in potlines 1, 2, and 4?

A: No. The real case examples demonstrate that additional time is not necessary to install the hydrogen fluorides continuous emission monitoring systems. Further, the regulations do not allow compliance extension requests for the installation of testing/monitoring equipment. Therefore, ODEQ must revise or revoke the compliance extension.

Abstract for [M030022]

Q1: Are the crude oil storage tanks at the Valdez Marine Terminal (VMT) source subject to the leak detection and repair (LDAR) requirements set forth by 40 CFR 63.563(c)?

A1: No. The storage tanks are not part of the vapor collection system and do not operate as part of a vapor balancing system as defined by the Marine Vessel Loading NESHAP. Therefore, the LDAR requirements of 40 CFR 63.563(c) do not apply to the VMT's crude oil storage tanks.

Q2: 40 CFR 63.562(e)(2) requires the development and maintenance of an operation and maintenance (O&M) plan that describes a program of corrective action for varying (i.e., exceeding baseline parameters) air pollution control equipment and monitoring equipment. Should the plan also address variances that occur within the vapor collection equipment, for example if vapor recovery system shutdowns have occurred as a result of high measured oxygen levels?

A2: No. The O&M plan requirements of 40 CFR 63.562(e)(2) and (e)(3) apply only to the VMT's control device. The vapor recovery system is not required to be covered by a specific O&M plan. Potential failure of the vapor recovery system should be anticipated and accounted for in the facility's O&M procedures.

Q3: Is the operator required to show an overall reduction of 98 percent of the captured vapors, per 40 CFR 63.565(l), or is the operator only required to show that the control device can achieve 98 percent destruction efficiency?

A3: The 98 weight-percent volatile organic compounds/hazardous air pollutants reduction requirement applies only to the VMT's control devices pursuant to 40 CFR 63.562(d)(2).

Abstract for [M030023]

Q: The Longview plant has been granted an additional year to achieve compliance with the Primary Aluminum MACT at North Plant potlines A, B, and C. Can the company receive an additional compliance extension for these potlines to perform fume collection system improvements to achieve compliance with the Primary Aluminum MACT?

A: Yes. Because an additional period of time is necessary for installation of controls to comply with the standards, EPA intends to grant an additional compliance extension for all three potlines, subject to the terms and conditions in the letter, pursuant to 40 CFR 63.6(i)(10).

Abstract for [M030024]

Q: Do the exceptions in 40 CFR 63.420(a)(1) or (a)(2) apply to the Pocatello terminal, such that the terminal is not subject to the Gasoline Distribution MACT?

A: No. EPA has determined that: (a) The Pocatello terminal does not satisfy the emissions screening factor prescribed in 40 CFR 63.420(a)(1); and (b) the terminal has not proven that it is not a major source, as defined in 40 CFR 63.2. Furthermore, the terminal qualifies for neither the Potential to Emit Transition Policy nor the Gasoline Distribution MACT Limited Relief Policy. Therefore, the requirements of the Gasoline Distribution MACT apply to the terminal in Pocatello, Idaho.

Abstract for [M030025]

Q: Will EPA extend the compliance date for a paste production plant subject to MACT subpart LL?

A: No. Because the facility has successfully demonstrated compliance with the applicable polycyclic organic matter emission standard, EPA finds no reason to extend the compliance date.

Abstract for [M030026]

Q: Will EPA approve the High Efficiency Air Filtration (HEAF) Scrubber System Parametric Monitoring Plan for a paste production plant subject to Primary Aluminum MACT?

A: No. EPA does not approve the use of the proposed plan because the proposed parametric monitoring limits are not reasonable. The amended plan shall include the information satisfying the requirements of 40 CFR 63.848(k). EPA also suggests incorporating the daily visual emissions monitoring into the plan.

Abstract for [M030027]

Q: Will EPA approve the revised HEAF Scrubber System Parametric Monitoring Plan (refer to determination M030026 on this ADI update) for the paste production plant?

A: Yes. EPA approves the use of the amended plan because the revised parametric monitoring limits are reasonable and the plan identifies the accuracy requirements.

Abstract for [M030028]

Q: Will EPA extend the compliance date for a paste production plant subject to MACT subpart LL?

A: No. EPA has found that additional time is not necessary for installation of controls in order to comply with the applicable polycyclic organic matter emission standard. EPA received no additional information or arguments in support of the request within 15 calendar days of receipt of the denial notice. EPA is hereby formally denying the compliance extension request.

Abstract for [M030029]

Q: Will EPA approve a request for a compliance extension for three horizontal stud soderberg potlines at Kaiser's Tacoma Works subject to the Primary Aluminum MACT (40 CFR part 63, subpart LL)?

A: Yes. EPA grants a compliance extension for all three potlines pursuant to 40 CFR 63.6(i)(10), subject to the terms and conditions in the letter, because an additional period of time is necessary for installation of controls in order to comply with the Primary Aluminum MACT.

Abstract for [M030030]

Q: Will EPA approve a site-specific test plan under the Primary Aluminum MACT for three horizontal stud soderberg potlines at Kaiser's Tacoma Works?

A: No. The test plan shall be revised to reflect EPA's comments on the stack sampling rotation approach and resubmitted for approval. The proposed ALCOA Methods and the American Society for Testing and Materials (ASTM) methods are approved as alternative test methods to Referenced Method 13A/13B.

Abstract for [M030031]

Q: Will EPA approve a site-specific test plan under the Primary Aluminum MACT for Alcoa's Wenatchee Works facility?

A: Yes. EPA approves with conditions the test plan which specifies sampling and analytical procedures to measure emissions from four center-worked prebake (CWPB1) potlines and an anode bake furnace, and the hydrogen fluoride continuous emission monitoring system method for use at Wenatchee Works.

Abstract for [M030032]

Q: For 40 CFR part 63, subpart LL, may Wenatchee get an exemption of flow angle measurement testing at potline 3 based on testing of other potlines?

A: Yes. Given the physical and operational similarities among the three potlines and potline reactor modules, EPA finds that the flow angle measurement results from potline 1 and 2 may be applied to potline 3.

Abstract for [M030033]

Q: Will EPA approve a site-specific test plan, and an operation, maintenance and monitoring plan (OM&MP) for the Alcoa Wenatchee Works facility subject to MACT subpart RRR?

A: Yes. Based on the information submitted, EPA approves the revised OM&MP and the revised site-specific test plan.

Abstract for [M030034]

Q: Will EPA approve the parametric monitoring plan, and the alternate test method plan proposed on January 28, 2000 by Industrial Chrome Plating (ICP)to comply with 40 CFR part 63, subpart N?

A: No. ICP's latest parametric monitoring and alternate test method proposals are not acceptable. EPA requests that within 30 days of receipt of the letter, ICP submit revised proposals for approval that incorporate the changes agreed upon during a conference call and that are consistent with the recommendations noted in the letter.

Abstract for [M030035]

Q: Will EPA grant an extension to achieve compliance with the MACT I standards at Port Townsend facility subject to Pulp and Paper MACT?

A: No. The facility's request does not relate to the installation of controls. Therefore, the request does not meet the criteria for the granting of this extension. Pursuant to 40 CFR 63.6(i)(12)(iii), EPA intends to deny the request. The facility has the opportunity to present in writing, within 15 calendar days of receipt of the letter, additional information to EPA before the request is formally denied.

Abstract for [M030036]

Q1: For sources with gasoline throughput and/or hazardous air pollutants (HAPs) emissions below specific applicability thresholds as of the initial compliance dates, does the source calculate throughput and/or actual annual HAPs emissions on a 12-month rolling average or once per calendar year basis to determine if the thresholds in 40 CFR part 63, subparts Y and CC are subsequently exceeded?

A1: Region 10 interprets the rules to require both ARCO Cherry Point Refinery (ARCO) and the Tosco Ferndale Refinery (Tosco) to calculate gasoline throughput and annual HAPs emissions only once each year on September 30 for the purpose of determining if the applicable thresholds are exceeded.

Q2: If annual gasoline throughput exceeds 10 mega barrels, and/or actual annual HAPs emissions are greater than 10 or 25 TPY, what is the prescribed schedule to achieve compliance with the applicable Reasonably Available Control Technology (RACT) and/or MACT emission standard in 40 CFR part 63, subpart Y?

A2: In the event annual gasoline throughput exceeds 10 mega barrels, and/or actual annual HAPs emissions increase beyond 10 or 25 TPY, the affected source is required to achieve compliance with the applicable RACT and/or MACT emission standard within three years of such exceedance.

Q3: Does the extraordinary nature of the Olympic Pipeline accident warrant providing regulatory relief to the petroleum refineries?

A3: No. Region 10 is not aware of any provision within section 112 of the CAA to grant regulatory relief to either petroleum refinery due to the Olympic Pipeline accident.

Abstract for [M030037]

Q: Will EPA approve a site-specific test plan for a facility subject to the Primary Aluminum MACT?

A: Yes. EPA approves with conditions a test plan which specifies sampling and analytical procedures to measure emissions from five center-worked prebake two (CWPB2) potlines and an anode bake furnace, and the hydrogen flouride continuous emission monitoring system (CEMS) monitoring method.

Abstract for [M030038]

Q: Will EPA approve a site-specific test plan under 40 CFR part 63, subpart LL to measure emissions from three side-worked prebaked (SWPB) potlines and an anode baking furnace?

A: Yes. EPA has determined that the test plan specifying sampling and analytical procedures to measure emissions from the three SWPB potlines and the anode baking furnace is acceptable.

Abstract for [M030039]

Q: For 40 CFR part 63, subpart S, will EPA approve an extension to comply with the pulp process condensate requirements which the Oregon Department of Environmental Quality (ODEQ) has already approved? The extension applies both for adding a steam stripper to control condensates or in the alternative to allow the facility to resolve issues if it decides to use a “hard-piping option” to comply.

A: In the event EPA amends the Pulp & Paper MACT to withdraw certain control requirements for biological treatment systems [40 CFR 63.453(j)(2)(ii)(B)] such that the facility elects then not to install a steam stripper, a one-year compliance extension may not be warranted. To accommodate such an event, EPA recommends that the state agency modify the approved compliance extension so that it expires within 30 days of the effective date of the rule amendment. As for Pope & Talbot, Incorporated's (P&T's) request for an extension to comply with the hard-piping option, EPA finds no reason to grant such an extension.

Abstract for [M030040]

Q: Which condensates at Longview are regulated evaporator system condensates under the Pulp and Paper MACT?

A: Pursuant to 40 CFR 63.446(b)(3), the following condensates are regulated evaporator system condensates: (a) Condensates from vapors from the feed effect(s); (b) condensates from effects that have a higher vacuum than the feed effect(s); and (c) condensates from the surface condenser and vacuum system(s). These condensates contain a majority of hazardous air pollutants within the evaporator system.

Abstract for [M030041]

Q1: Will EPA grant a one-year extension to comply with the Pulp and Paper MACT for the Longview Fibre facility?

A1: Yes. With certain conditions, EPA grants the extension to comply with 40 CFR 63.443 in order to install a low volume, high concentration system.

Q2: Will EPA grant a one-year extension to conduct performance testing on the facility's dedicated control device?

A2: No. EPA intends to deny the request because it is not related to the installation of pollution controls, which is a required condition for an extension under 40 CFR 63.6(i)(4)(i)(A). However, Longview Fibre has 15 calendar days upon receipt of the letter to provide additional information to EPA before the request is formally denied.

Abstract for [M030042]

Q: Will EPA grant a one-year extension to conduct performance testing on the dedicated control device at Longview Fibre's facility?

A: No. Based on the reason outlined in the August 31, 2000 letter, and based on the fact that EPA received no additional information relating to this request, EPA denies the request.

Abstract for [M030043]

Q: May Weyerhaeuser receive a one-year extension to comply with the condensate collection standards, and with the bleaching system standards at its Longview (WA) facility?

A: EPA intends to deny Weyerhaeuser's request for an extension for the condensate collection system because the Pulp and Paper MACT provides several options to compensate for the variability of methanol content in the condensate stream which the company has concerns about. A source has 15 calender days upon receipt of the letter to provide additional information to EPA before the request is formally denied. For its bleaching system, EPA grants a conditional approval for an extension as the company states that the installation of new washers would only be necessary should other options fail to bring the mill into compliance with the MACT standards.

Abstract for [M030044]

Q: Will EPA extend the compliance date for a paste production plant subject to 40 CFR part 63, subpart LL?

A: No. Given that the facility has successfully demonstrated compliance with the polycyclic organic matter emission standard, EPA finds no reason to extend the compliance date.

Abstract for [M030045]

Q: Will EPA extend the compliance date for a paste production plant subject to 40 CFR part 63, subpart LL?

A: No. EPA has found that additional time is not necessary for installation of controls in order to comply with the applicable polycyclic organic matter emission standard. EPA received no additional information or arguments in support of the request within 15 calendar days of receipt of the denial notice (refer to determination M030044 on this ADI update). EPA is hereby formally denying the compliance extension request.

Abstract for [M030046]

Q1: Are the performance test results for Tank 5 and Tank 6 acceptable to determine initial compliance with MACT subpart N?

A1: Yes. EPA accepts the performance test results despite the sampling deviations because of the large margin of compliance. However, the company is required to request EPA approval prior to conducting additional performance testing utilizing the deviations.

Q2: May a company monitor continuous compliance with the 0.015mg/dscm total chromium emission standard by conducting a week-long test three times per year?

A2: No. EPA does not approve the proposed monitoring plan because it does not adequately determine continuous compliance.

Q3: May the company receive a performance test waiver for Tank 4 and Tank 26 based partly upon the performance test results for Tank 5 and Tank 6, and the implementation of the proposed monitoring plan?

A3: No. EPA denies the request because the operating conditions for Tank 4 and Tank 26 are different from those for Tank 5 and Tank 6. In addition, EPA denies the proposed monitoring plan.

Abstract for [M030047]

Q: Will EPA grant a performance test waiver for the hard chromium electroplating operation subject to MACT Subpart N?

A: Yes. EPA grants the facility a waiver from the performance testing requirements of 40 CFR 63.344 because the facility satisfies the conditions established in EPA's source test waiver policy issued on January 16, 1998, for very small hard chromium electroplaters.

Abstract for [M030048]

Q: Will EPA require a facility to conduct another performance test for the hard chromium electroplating operation while operating a 12,000 amperage rectifier given that an initial performance test was conducted while operating a 6,000 amperage rectifier?

A: Yes. Given the unknown compliance status of the operation while utilizing the 12,000 amperage rectifier, Region 10, utilizing the Administrator's authority under section 114(a) of the CAA, requires the facility to conduct another performance test.

Abstract for [M030049]

Q1: Will EPA approve a compliance extension request under Part 63, Subpart LL for a primary aluminum facility in Goldendale, Washington?

A1: Because the Washington Department of Ecology (WDOE) has the interim authority to grant compliance extensions, EPA defers to WDOE to process the request.

Q2: Will EPA approve the use of a high efficiency air filtration (HEAF) scrubber system to control polycyclic organic matter emissions (POM) for the paste production plant?

A2: No. EPA cannot determine whether the HEAF scrubber system is an acceptable alternative to the dry coke scrubber before receiving information demonstrating that the HEAF scrubber system achieves emissions less than 0.011 pounds POM per ton paste produced.

Abstract for [M030050]

Q1: Will EPA approve the use of an high efficiency air filtration (HEAF) scrubber system to control polycyclic organic matter emissions for the paste production plant?

A1: Yes. Based upon the September 8-10, 1999, emissions data and EPA's inspection, EPA has concluded that the HEAF system can achieve the applicable emission rate. Therefore, EPA approves the use of the HEAF system as an alternative control device.

Q2: Will EPA approve a plan to monitor the emission control device?

A2: Yes. EPA approves the monitoring plan because it satisfies the requirements and intent of 40 CFR 63.848(f).

Abstract for [M030051]

Q: Under part 63, subpart MM, may a company with a smelt dissolving tank that is equipped with a dynamic scrubber conduct monitoring of amperage in lieu of pressure drop across the control device?

A: Yes. Pressure drop is not the best indicator of control device performance for low-energy entrainment scrubbers. Measuring the scrubbing liquid flow rate and amperage, since fan speed does not vary for the fans used in this application, should be sufficient for demonstrating continuous compliance.

Abstract for [M030052]

Q: Will EPA approve a standard for hazardous air pollutants (HAPs) metal emissions for a mineral wool production facility in lieu of the particulate matter (PM) emission standard in 40 CFR 63.1178?

A: No. The PM surrogate is used because sufficient industry data is not available to establish a metals emissions limit and because reliable monitoring for some HAP metals is not currently available.

Abstract for [M030053]

Q: May a facility with a recovery furnace that is equipped with an electrostatic precipitator (ESP) monitor precipitator power level as an alternative to the continuous opacity monitoring system (COMS) required by 40 CFR 63.864(a)?

A: Because the existing stack configuration is not conducive to a COMS application and would probably not be conducive to applying a particulate matter continuous emission monitoring system, EPA is willing to consider an alternative monitoring approach based on ESP power values and device design, and requests a monitoring plan to support this proposal.

Abstract for [M030054]

Q: Will EPA allow an alternative monitoring plan (AMP) for the continuous opacity monitoring (COM) requirements set in MACT subpart UUU?

A: Yes. EPA approves the AMP for opacity readings from the fluid catalytic cracking unit catalyst regenerator because opacity measurements cannot be accurately read by a COM due to the presence of condensed water in the wet scrubber stack. The alternative is the same plan already approved for the unit under a preexisting permit condition as part of an alternative NSPS monitoring plan, and the MACT and NSPS limits for particulate matter are the same emission limits.

Abstract for [M030055]

Q: Will EPA allow monitoring amperage in lieu of pressure drop across the control device of a smelt dissolving tank equipped with a dynamic scrubber?

A: Yes. Pressure drop is not the best indicator of control device performance for low-energy entrainment scrubbers. Measuring the scrubbing liquid flow rate and amperage, since fan speed does not vary for the fans used in this application, should be sufficient for demonstrating continuous compliance.

Abstract for [M030056]

Q: Will EPA approve a standard for hazardous air pollutants (HAPs) metal emissions in lieu of the PM emission standard in 40 CFR 63.1178 for a mineral wool production facility (40 CFR part 63, subpart DDD)?

A: No. The PM surrogate is used because sufficient industry data is not available to establish a metals emissions limit and because reliable monitoring for some HAPs metals is not currently available.

Abstract for [M030057]

Q: A facility with a recovery furnace equipped with an electrostatic precipitator (ESP) proposes monitoring precipitator power level as an alternative to the continuous opacity monitoring system (COMS) required by 40 CFR 63.864(a). Is this acceptable?

A: Because the existing stack configuration is not conducive to COMS application and would probably not be conducive to applying a particulate matter continuous emission monitoring system, EPA is willing to consider an alternative monitoring approach based on ESP power values and device design. A monitoring plan to support this proposal is requested.

Abstract for [M030058]

Q1: If gasoline loading racks for a bulk gasoline terminal located at a petroleum refinery subject to 40 CFR part 63, subpart CC, load Isomerate, a gasoline blending stock, into cargo tank trucks, is the owner or operator of the racks and terminal required to continuously demonstrate compliance with the hazardous air pollutant vapor processing unit's emission standard of 40 CFR part 63, subpart R, as incorporated by reference into 40 CFR part 63, subpart CC?

A1: Yes. The Isomerate blending stock produced at the refinery satisfies the definition of “gasoline” in 40 CFR 63.641.

Q2: For the purpose of implementing NESHAP part 63 regulations, is the definition of “gasoline” in 40 CFR part 80, applicable under 40 CFR part 63?

A2: No. The definition of “gasoline” in 40 CFR part 80 was published to enable implementation of a section of the CAA other than section 112 and the part 80 definition is not applicable for the purpose of implementing NESHAP part 63.

Abstract for [M030059]

Q. A facility wishes to take restrictions on its hazardous air pollutant potential to emit after January 20, 2003, the compliance date for the amino/phenolic resins MACT standard (40 CFR part 63, subpart OOO). Does it remain subject to the MACT standard and the Title V operating permit program as a major source?

A. Yes. Under EPA's May 16, 1995 policy “Potential to Emit for MACT standards—Guidance on Timing Issues,” if a facility is a major HAP source on the compliance date for that standard and it meets the applicability criteria for the standard, it remains permanently subject to that standard as a major source. It follows that it remains subject to the Title V operating permit program.

Abstract for [M030060]

Q: Is the B & B Metals Processing Company facility in Newton, Wisconsin, subject to the Secondary Aluminum NESHAP, 40 CFR part 63, subpart RRR?

A: Yes. The facility melts and alloys aluminum scrap in a furnace operation.

Abstract for [M030061]

Q1: May the Lubrizol hazardous waste incinerator in Painesville, Ohio (Lubrizol), subject to 40 CFR part 63, subpart EEE, combine the total and pumpable waste feed rates to the primary and secondary combustion chambers, in lieu of establishing maximum total and pumpable feed rate limits to each chamber?

A1: Yes, provided that Lubrizol demonstrates compliance with destruction and removal efficiency (DRE) and dioxin/furan standards with maximum feed rates during the comprehensive performance test (CPT).

Q2: May Lubrizol establish minimum and maximum pressure drops across its bag house and monitor that pressure drop? The U.S. EPA has withdrawn the requirement to do this across each cell of a bag house.

A2: Yes. Until the U.S. EPA promulgates monitoring requirements for baghouses, the monitoring requirements for particulate matter control devices other than wet scrubbers apply.

Q3: To ensure that the concentration of suspended particles in the scrubber liquid does not exceed the concentration during the CPT, may Lubrizol elect to establish a minimum blowdown rate only, if 40 CFR 63.1209(m)(1)(i)(B)(1) also requires sources to either establish a minimum scrubber tank volume or liquid level if electing this option in lieu of a scrubber liquid solids concentration limit?

A3: Yes. Scrubber liquid can exit the scrubber only through a fixed overflow line. A minimum blowdown rate ensures that the scrubber liquid level remains within a few inches of the overflow line's height. If blowdown falls below the minimum rate, an automatic waste feed cutoff system engages.

Q4: For Lubrizol, will the EPA waive the requirement to establish a minimum pressure for the liquid feed to the wet scrubber?

A4: Yes. Lubrizol's wet scrubber uses an orifice plate, rather than spray nozzles, to distribute the scrubber liquid. The EPA can waive the liquid feed pressure requirement for a wet scrubber that does not rely upon atomization to maintain removal efficiency.

Q5: For Lubrizol, will the EPA waive the requirement to monitor the concentration of regulated pollutants in natural gas, combustion air, and feed streams from vapor recovery systems, fed to the incinerator?

A5: Yes. To qualify for a waiver, the regulation requires that Lubrizol document the expected levels of regulated pollutants in the feed stream and account for them in documenting compliance with feed rate limits. Lubrizol uses natural gas only during startup, uses only ambient air for combustion, and has no feed streams from vapor recovery.

Q6: May Lubrizol use its methodology to extrapolate feed rate limits for semi-volatile metals (SVM) and low volatile metals (LVM)? Lubrizol's methodology uses the removal efficiency demonstrated during the CPT, the volumetric flow rate at the exhaust stack, an equation to calculate the maximum emission rate at 75 percent of the SVM and LVM limits, and an equation to calculate the allowable SVM and LVM feed rate limits.

A6: Yes. Lubrizol has documented the historical range of metal feed rates for each feed stream. In addition, Lubrizol has demonstrated that the metal concentrations in spiked feed streams are greater than detection limits, and that the spike feed rates will result in exhaust concentrations that are greater than reference method detection limits.

Q7: Will EPA approve a request to waive the requirement to conduct a mercury performance test?

A7: Yes, based on the information provided by the source, EPA can reasonably believe that Lubrizol can continuously demonstrate compliance with the mercury emission standard.

Abstract for [M030062]

Q1: In order to verify proper operation of its electrostatic precipitators, may Von Roll America use the electrostatic precipitator's (ESP) automated voltage/current controllers (“AVC”) and establish a minimum total power limit and be in compliance with part 63, subpart EEE?

A1: Yes. EPA concludes that the use of the AVC and a minimum total power operating parameter limit are appropriate monitoring requirements to demonstrate proper operation of the ESP. At the time of this approval, 40 CFR part 63, subpart EEE had no specific required operating parameter limits (OPLs).

Q2: Do the pressurized shrouds and dual seals on the inlet and outlet ends of a rotary kiln and OPLs control combustion system leaks in a manner that is equivalent to maintaining the pressure in the maximum combustion zone below the ambient pressure during pressure spikes? May Von Roll establish three operating parameter limits that will engage the automatic waste feed cut-off system when exceeded?

A2: EPA concludes that the pressurized shrouds, dual seals and OPLs control combustion system leaks in a manner that is equivalent to maintaining the maximum pressure in the combustion zone below the ambient pressure during pressure spikes. EPA concludes that the proposed OPLs address situations when a pressure spike may exceed the shrouds' ability to prevent combustion leaks, and Von Roll may establish the OPLs that the company proposed.

Abstract for [Z030002]

Q: Will EPA approve the construction and waive emission tests of two incinerators subject to Mercury NESHAP?

A: Yes. Since Phillips estimates that in an anticipated worst case scenario, mercury emissions from the two proposed incinerators would be less than one tenth of the emission standard, EPA approves the construction and waives emission tests of the proposed incinerators pursuant to 40 CFR 61.08(b) and 61.13(i)(1).

Abstract for [Z030003]

Q: Are the electric toilets at BP's Northstar Development Project subject to NSPS subpart O and NESHAP subpart E?

A: No. These units are not subject to NSPS subpart O and NESHAP subpart E based on the information provided by BP that these units do not engage in such activities as stated in 40 CFR 60.150 and 61.50.

Abstract for [Z030004]

Q1: Tosco combines affected process wastewater streams for centralized treatment. Is the waste stream flowing to the Roughing Filter with less than 10 ppm benzene exempt from control requirements per NESHAP subpart FF?

A1: No. Based on a detailed review of the regulations and supporting discussion in the 1990 preamble to 40 CFR part 61, subpart FF, the exemption of 40 CFR 61.342(c)(2) does not apply because the facility uses a centralized wastewater treatment system that treats aggregate waste streams, some of which may have benzene concentrations greater than 10 ppm. The control requirements do not allow for avoiding control requirements through intentional or unintentional dilution of waste streams. Thus, waste management units, including the Roughing Filter, are subject to control requirements of 40 CFR 61.348(b).

Q2: Does the exemption of 40 CFR 61.348(b)(2)(ii)(B) apply to Tosco's Roughing Filter?

A2: No. The Roughing Filter is not an enhanced biodegradation unit as defined NESHAP subpart FF.

Q3: What procedures apply if Tosco wanted to seek approval for an alternative means of emission limitation for its Roughing Filter system?

A3: EPA Region 10 does not have the authority to grant Tosco an alternative means of emission limitation. The Assistant Administrator of the Office of Air and Radiation (OAR) along with the Director of the Office of Air Quality Planning and Standards (OAQPS) possess such authority, and the determination indicates how Tosco should follow up on this matter if it remains interested in this option.

Abstract for [0300040]

Q: May a facility derate a boiler whose burner has been replaced with a new natural gas burner such that the Btu/hr?

A: Yes. The facility is eligible to derate the boiler's heat input capacity. A performance test shall be conducted to determine the derated value and a test plan submitted to EPA for approval.

Abstract for [0300047]

Q1: May an opacity monitoring plan be amended to reflect the unique atmospheric and physical conditions for a boiler subject to NSPS subpart D?

A1: Yes. EPA will amend the proposed monitoring plan such that the facility may attempt to conduct at least one observation each day of the month to satisfy the monthly opacity monitoring requirement.

Q2: Will EPA allow the facility to correlate scrubber operating parameters to particulate matter emissions rather than opacity?

A2: No. Opacity monitoring is required to indicate a boiler's compliance status with the 20 percent opacity standard. Therefore, it is appropriate to correlate scrubber operating parameters to Reference Method 9 opacity observations.

Abstract for [0300048]

Q: Will EPA approve a custom fuel monitoring schedule for sulfur and nitrogen for turbines subject to NSPS subpart GG?

A: Yes. EPA approves the customized fuel monitoring for the turbines when using natural gas.

Abstract for [0300049]

Q: Is a boiler whose heat input capacity is less than 10 MMBtu per hour subject to NSPS subpart Dc?

A: No. A boiler whose heat input capacity is less than 10 MMBtu per hour is not subject to NSPS subpart Dc.

Abstract for [0300050]

Q: Will EPA waive the requirement to conduct performance testing of the refinery fuel gas system for designated heaters?

A: Yes. EPA will waive the requirement to conduct performance testing pursuant to 40 CFR 60.8(b)(4) based on the continuous emission monitoring results that indicate daily hydrogen sulfide (H2S) concentrations consistently are well below the emission standard and on the understanding that the modifications to the Kenai Refinery will not impact the source's ability to maintain the refinery fuel gas system's standard of environmental performance.

Abstract for [0300051]

Q: Will EPA approve an amended custom fuel monitoring schedule incorporating an annual reporting frequency under NSPS subpart GG for the turbines at Kuparuk Central Production Facility-1 (CPF-1)?

A: Yes. Given documented compliance history and consistent with reporting frequencies for other affected facilities at Kuparuk, EPA approves the request for an annual reporting frequency.

Abstract for [0300052]

Q: Will EPA accept plans for retrofitting a buffer gas system and replacing degassing tanks for bringing compressor seal systems into compliance with NSPS subpart KKK compressor requirements?

A: Yes. The proposed changes are acceptable.

Abstract for [0300053]

Q: May a facility test one of the turbines in each category to demonstrate compliance with the nitrogen oxides (NOX) emissions standard of 40 CFR 60.332 and waive the performance test for the other identical turbines?

A: Yes. EPA grants this waiver contingent upon forthcoming performance test results clearly demonstrating compliance with the NOX emissions standard.

Abstract for [0300054]

Q: Will EPA approve an alternative opacity monitoring plan for a boiler subject to NSPS subpart D?

A: Yes. EPA approves of the alternative opacity monitoring plan. Initial Reference Method 9 opacity observations shall be conducted within six months of the date of this letter and the records shall be maintained on-site for a period of five years.

Abstract for [0300055]

Q: Will EPA approve assignment of a dry molecular weight value of 30.0, in lieu of actual measurements, to flue gas from dryers at hot mix asphalt plants under 40 CFR part 60, subpart I?

A: Yes. As demonstrated through source tester experience at fossil fuel-fired combustion sources, utilizing an approximate value for dry gas molecular weight is sufficient to determine an acceptable sample nozzle diameter and isokinetic sampling rate.

Abstract for [0300056]

Q: Will EPA approve the use of the manufacturer's emissions tests to satisfy the subpart GG performance test requirements and waive the requirement to separately test the turbine at the Barrow Utilities and Electric Cooperative, Incorporated, power plant?

A: No. EPA denies this request because the conditions at the testing location are not identical to those at the operating site.

Abstract for [0300057]

Q1: What is the “permanent storage capacity” of a grain handling and storage facility?

A1: Based on the definition in NSPS subpart DD, the permanent storage capacity must include the silos and bins used to store grain regardless of designation by the facility.

Q2: Should the permanent storage capacity take into consideration the “pack factor,” as determined by the Department of Agriculture?

A2: No. Permanent storage capacity should not take into consideration the “pack factor.” The permanent storage capacity at the facility in question falls below the 2.5 million bushel threshold; thus, the facility is not a grain terminal elevator as defined in NSPS subpart DD.

Q3: If the facility is determined to be subject to subpart DD, should the facility be subject to Title V and Prevention of Significant Deterioration (PSD) requirements as a result of fugitive emissions?

A3: If a facility would be subject to an NSPS such as NSPS subpart DD based on the size and type of the facility, but is not subject to the NSPS solely based on the date of construction, then the Title V and PSD definitions of “major source” (or “major stationary source”) require that fugitive emissions be considered in determining if the emissions from the facility exceed the major source threshold for purposes of those permit programs. Because the facility in question does not meet the definition of a grain terminal elevator in NSPS subpart DD, its fugitive emissions should not be included in determining PSD applicability and Title V permitting.

Abstract for [0300058]

Q: EPA has approved Ponderay Newsprint Company's (PNC's) predictive emissions monitoring system (PEMS) as an alternative monitoring method for the NSPS subpart Db propane boiler. Will EPA amend some of the approval conditions to address PNC's concerns regarding PEMS downtime and the RATA test schedule?

A: Yes. EPA has amended the alternative emissions monitoring approval to allow for PEMS downtime due to system breakdown and repair, and to allow for some flexibility in conducting an annual RATA.

Abstract for [0300059]

Q: For part 60, subpart GG, will EPA approve a request to update an existing custom fuel monitoring schedule (CFMS) by incorporating a portable Solar Saturn T-1300 turbine into the CFMS?

A: Yes. EPA will incorporate a portable Solar Saturn T-1300 turbine into the CFMS.

Abstract for [0300060]

Q: Will EPA approve a custom monitoring and reporting schedule under NSPS Subpart Dc for the boiler at Providence Alaska Medical Center?

A: Yes. EPA approves a monthly fuel usage monitoring schedule while firing pipeline quality natural gas. However, EPA denies the request for a custom monitoring and reporting schedule while firing distillate oil because Providence has not yet demonstrated compliance with the 0.5 weight-percent fuel oil sulfur limit.

Abstract for [0300061]

Q: For NSPS subpart GGG Federal Plan Requirements, does Region 10 approve of a test plan for the City of Spokane's Northside Landfill that incorporates alternative sampling and testing procedures already approved by the Office of Air Quality, Planning and Standards (OAQPS)?

A: While the alternative procedures have already been approved, EPA Region 10 determines that the test plan is incomplete, and the facility must amend and resubmit the plan to include sufficient information on specific, enumerated topics to assure that testing is conducted properly in accordance with regulatory requirements.

Abstract for [0300062]

Q: May the requirements for compliance with each aspect of NSPS subpart WWW be avoided (and left out of a Title V permit) for the landfill if a landfill collects its landfill gas and sends it to a separate facility located on leased landfill property for combustion and generation of electricity?

A: No. The Title V permit must incorporate all aspects of NSPS subpart WWW and require the owner and operator of the affected facility to certify compliance with its requirements. The other entity could also be held responsible for those aspects of compliance with NSPS subpart WWW. However, the owner of a regulated facility cannot contract away its liability nor is it relieved of the compliance requirements simply because it has entered into a contract with another entity to perform the regulated activities.

Abstract for [0300063]

Q: Will EPA approve an alternative recordkeeping schedule for burners subject to NSPS subpart Dc?

A: Yes. EPA approves the request to record fuel usage quarterly because the burners combust only natural gas fuels and NSPS subpart Dc contains no applicable emission limitation for natural gas combustion.

Abstract for [0300064]

Q1: May BP Exploration (Alaska) Inc. (BPXA) use a custom fuel monitoring schedule for certain natural gas-fired turbines?

A1: Yes. BPXA may monitor the sulfur content of natural gas once per month rather than once per day because the existing analytical data show that the sulfur content of the gas is consistently well below the 0.8 percent by weight limit.

Q2: May BPXA use “length-of-stain” detector tube techniques as prescribed by the American Society for Testing and Materials and the Gas Processors Association to measure the sulfur content of natural gas?

A2: Yes. Given that the sulfur content of the natural gas is well below the standard, these methods are sufficiently accurate to make a compliance determination.

Q3: May BPXA get a waiver of nitrogen monitoring during performance testing and during periodic monitoring?

A3: Yes. Nitrogen monitoring can be waived for pipeline quality natural gas since there is no fuel-bound nitrogen.

Abstract for [0300065]

Q: Are the electric toilets at British Petroleum Exploration (BP) Northstar Development Project subject to NSPS subpart O and NESHAP subpart E?

A: No. These units are not subject to NSPS subpart O and NESHAP subpart E based on the information provided by BP that these units do not engage in such activities as stated in 40 CFR 60.150 and 61.50.

Abstract for [0300066]

Q: A company with two 55 MMBtu/hr boilers intends to modify the condensate return system such that high temperature feed water is pumped to the boilers at a much higher pressure. Will such a modification, which will increase the steam generating capacity of the boilers, trigger NSPS Subpart Dc applicability?

A: No. Based on the facts presented, the requirements of NSPS subpart Dc will not apply to either boiler upon completion of the proposed project because the project does not constitute a modification under 40 CFR 60.14(a) (i.e., there is no indication that emissions will increase) and does not constitute a reconstruction project under 40 CFR 60.15(b) (i.e., the project budget is only about 10 percent of replacement cost).

Abstract for [0300067]

Q1: Will EPA approve a request to waive the requirement to monitor nitrogen content and to monitor sulfur content of pipeline quality natural gas on a semiannual schedule under NSPS Subpart GG?

A1: Yes. EPA will waive nitrogen monitoring for pipeline quality natural gas, as there is no fuel-bound nitrogen. Fuel gas sulfur monitoring shall be conducted semiannually with hydrogen sulfide (H2S) concentration less than 2,000 ppmw and daily with H2S concentration greater than 2,000 ppmw.

Q2: Will EPA approve an alternative method for sulfur content analysis of the natural gas fuel for the Unocal gas turbines?

A2: Yes. EPA approves Unocal's use of an alternate analytical method using the length-of-stain tube test, provided that the sulfur content of the gaseous fuel is well below the 2,000 ppmw threshold.

Abstract for [0300068]

Q: A company plans to burn fuel oil infrequently in an NSPS subpart Db boiler which is equipped to burn natural gas as its primary fuel. Will EPA approve an alternative to the use of a continuous opacity monitoring system?

A: No. EPA denies the request because the boiler's annual capacity factor for No. 2 distillate fuel oil is not limited to 10 percent or less.

Abstract for [0300069]

Q: Will EPA approve Pacific Gas and Electric Gas Transmission's request to revise the May 8, 1996, custom fuel monitoring schedule (CFMS) for 12 compressor stations subject to NSPS subpart GG?

A: Yes. EPA approves the revision to the CFMS to reflect the use of the American Society for Testing and Materials (ASTM) Reference Methods ASTM D 3031-82 and ASTM D 4084-94.

Abstract for [0300070]

Q: Under 40 CFR part 60, subpart GG, may a company conduct quarterly sampling of Light Straight Run (LSR) fuel to determine its sulfur and nitrogen content?

A: Yes. The historical sampling data indicates that the sulfur and nitrogen concentrations of the LSR fuel are consistently and significantly less than allowable level. Therefore, less frequent sampling of the fuel is appropriate.

Abstract for [0300071]

Q: Will EPA approve an extension of the previously approved waiver of the nitrogen content testing requirement, an alternate monitoring plan and an alternate test method to be applicable to other affected stationary gas turbines under 40 CFR part 60, subpart GG?

A: Yes, the previous approvals dated May 4, 1998, and June 8, 1999, are also applicable to the three other turbines located at Barrow, Alaska.

Abstract for [0300072]

Q1: Will EPA approve the Port Townsend Paper Company's (PTPC'S) request to maintain fuel receipts of reprocessed fuel oil as a means of demonstrating compliance with the sulfur dioxide (SO2) emission limit for an NSPS subpart Db boiler?

A1: No. EPA denies this request for the following reasons: (1) The reprocessed fuel oil does not meet the definition of distillate oil as defined in 40 CFR 60.41b; and (2) PTPC recently received a Notice of Violation from the WDOE for burning fuel in the boiler that contained more than 0.5 weight-percent sulfur.

Q2: Will EPA approve an alternate SO2 monitoring plan for an NSPS subpart D boiler?

A2: Because EPA has not promulgated a fuel sampling method under 60.45(d) that applies to subpart D boilers, EPA cannot approve an alternative SO2 monitoring plan under NSPS. Instead, EPA defers to the Title V permitting process to establish a monitoring plan for demonstrating compliance.

Q3: Will EPA approve an alternate opacity monitoring plan for the NSPS subpart D boiler?

A3: PTPC proposed to continuously monitor scrubber liquid and air flow rates. EPA denies this proposal because monitoring these parameters is insufficient to ensure compliance with the standard.

Abstract for [0300073]

Q: Will EPA approve an alternate opacity monitoring plan for an NSPS subpart D boiler?

A: No. EPA cannot approve the proposed opacity monitoring alternative for the boiler. Instead, a monitoring plan for similar scrubber operating parameters is enclosed for the company to review.

Abstract for [0300074]

Q: Will EPA approve an alternative monitoring plan (AMP) for the NSPS subpart J monitoring requirements that apply to a John Zinc Thermal Oxidizing Flare at a truck loading rack?

A: Yes. EPA approves the AMP because it is consistent with EPA's guidance in “Alternative Monitoring Plan for NSPS subpart J Refinery Fuel Gas” and because the monitoring data demonstrate that the hydrogen sulfide (H2S) content will be significantly less than the requirement of less than 162 ppmv.

Abstract for [0300075]

Q: May a source receive a waiver of the initial performance test for nitrogen oxides (NO2) for a new gas turbine subject to NSPS subpart GG?

A: Yes. This waiver is granted because the source has demonstrated that the turbine would be in compliance with the applicable standard for NO2 emissions.

Abstract for [0300076]

Q: Due to a permanent physical change to a boiler, its heat input capacity decreased to less than 100 MMBtu/hr. Will the boiler be subject to the requirements of NSPS subpart Db?

A: No. The boiler is no longer subject to the requirements of NSPS subpart Db. However, given that the boiler commenced construction after June 9, 1989, the requirements of NSPS subpart Dc apply.

Abstract for [0300077]

Q: Will EPA approve a request under 40 CFR part 60, subpart GG to waive the requirement to monitor nitrogen content and to monitor sulfur content of pipeline quality natural gas on a semiannual basis?

A: Yes. EPA will waive nitrogen monitoring for pipeline quality natural gas, as there is no fuel-bound nitrogen. Fuel gas sulfur monitoring shall be conducted on a semiannual schedule. Specific conditions for confirming sulfur variability of the pipeline quality natural gas must be followed.

Abstract for [0300078]

Q1: Will EPA approve the use of an Alternative monitoring plan (AMP) as the performance test under NSPS subpart Dc for various combustion units firing light straight run (LSR) fuel?

A1: Yes. Pursuant to 40 CFR 60.8(b)(4), EPA waives the requirement for performance testing because the monthly sampling data demonstrate the facility's compliance with the applicable standard.

Q2: Will EPA reconsider and approve the request to reduce the hydrogren sulfide (H2S) fuel gas monitoring frequency?

A2: Yes. EPA approves the request for less frequent H2S fuel gas sampling based upon historical monitoring data and current operating conditions. The approval is contingent upon the implementation of a 5-day rolling average action level of 80 ppm for each sulfatreat vessel.

Abstract for [0300079]

Q: Will EPA approve a request for an exemption from performance testing requirements for a heater subject to NSPS subpart J?

A: Yes. Because the historical data sufficiently demonstrate compliance with the standard, EPA waives the requirement to conduct performance testing per 40 CFR 60.8(b)(4).

Abstract for [0300080]

Q: Will EPA approve a NOX PEMS to comply with NSPS subpart Db?

A: Yes. EPA approves the PEMS as an alternative monitoring system because the PEMS satisfies the performance specifications prescribed by EPA Region 10. As a condition of this approval, the company must comply with certain requirements.

Abstract for [0300082]

Q: Will EPA approve a request to waive the requirement to monitor nitrogen content and to monitor sulfur content of pipeline quality natural gas on a semiannual basis under NSPS subpart GG?

A: Yes. EPA will waive nitrogen monitoring for pipeline quality natural gas, as there is no fuel-bound nitrogen. Fuel gas sulfur monitoring shall be conducted on a semiannual schedule. Specific conditions for confirming sulfur variability of the pipeline quality natural gas must be followed.

Abstract for [0300083]

Q1: Will EPA approve the use of a continuous emission monitoring system (CEMS) for nitrogen oxides (NOX) as an alternate method for monitoring the ratio of water to fuel for the turbines subject to NSPS subpart GG?

A1: Yes. Because the NOX CEMS is expected to provide direct emissions data, pursuant to 40 CFR 60.13(i), EPA approves the use of the NOX CEMS as an alternative monitoring system to the parametric monitoring system.

Q2: Will EPA approve a waiver of the requirement to conduct performance testing for NOX for the turbines at four load levels?

A2: Yes. EPA will waive the requirement to conduct performance testing for NOX for each turbine at four load levels, if a CEMS is used to monitor the emissions of NOX, and the Relative Accuracy Test Audits (RATA) test results of 40 CFR part 75 are used to demonstrate compliance under NSPS subpart GG.

Abstract for [0300084]

Q: Will EPA approve an alternative monitoring plan (AMP) to use scrubber parameter monitoring instead of a continuous opacity monitoring system (COMS) for opacity monitoring of the catalyst regenerator under NSPS subpart J?

A: Yes. EPA approves the AMP with the provision that weekly sampling and analysis for weight-percent solids in the scrubber liquid shall be added as an additional operating parameter to the AMP.

Abstract for [0300085]

Q: A company deviated from the testing requirements of EPA Reference Method 1 while conducting a performance test of a rotary dryer. May the performance test results be used to determine compliance with NSPS subpart I?

A: Yes. Given the minor nature of the deviation and the facility's ample margin of compliance, EPA has determined that the conducted testing is adequate to determine compliance with the standards. In the future, the company shall utilize a 5×5 sampling matrix per the requirements of Method 1.

Abstract for [0300086]

Q: BPXA utilizes dry low nitrogen oxides (NOX) technology to control NOX emissions and intends to conduct source testing in April 1999 for two turbines at the Badami Project. Will EPA waive the initial performance test requirement for the two turbines based on these two conditions?

A: No. These two conditions do not demonstrate each turbine's compliance with the NOX and SO2 emissions standards of NSPS subpart GG. Performance testing shall be conducted within 180 days of initial startup per 40 CFR 60.8(a).

Abstract for [0300087]

Q: Will EPA approve use of the length-of-stain detector tube test to determine sulfur content of natural gas fuel for turbines at the Badami Project on the North Slope of Alaska?

A: Yes. EPA approves this request because the existing data show that the sulfur content of the gas is well below the 8,000 ppmw limit and is not expected to vary significantly.

Abstract for [0300088]

Q: Will EPA grant a source test waiver for one of two identical natural gas-fired turbines subject to NSPS subpart GG at the Badami Project?

A: Yes. Testing on one of the two identical turbines can be waived if one turbine is tested and the nitrogen oxides concentration in the exhaust from the tested unit is less than half of the applicable standard.

Abstract for [0300089]

Q: May BP Exploration (Alaska), Incorporated (BPXA), record fuel usage quarterly rather than daily as prescribed in 40 CFR 60.48c(g) for two heaters at the Badami Project?

A: Yes. Because NSPS subpart Dc contains no emission limit for steam generating units combusting only natural gas fuels, EPA approves BPXA request to record fuel usage quarterly. This approval becomes void if the heaters combust a fuel other than natural gas.

Abstract for [0300090]

Q: May BP Exploration (Alaska), Incorporated (BPXA) record fuel usage quarterly rather than daily as prescribed in 40 CFR 60.48c(g) for the heater at the Liberty Project?

A: Yes. EPA approves this request provided that only natural gas or low sulfur fuel oil are used. This approval is based on the facts that subpart Dc establishes no emission limit for natural gas combustion, and that BPXA intends to demonstrate compliance with the applicable 5,000 ppmw sulfur limit by maintaining fuel supplier certifications per 40 CFR 60.48c(f) while firing diesel fuel.

Abstract for [0300091]

Q1: Will EPA approve an alternate test method to measure sulfur content of gaseous fuels for certain turbines subject to NSPS subpart GG?

A1: Yes. EPA approves the alternate test method incorporating the “length of tube” methodology to measure hydrogen sulfide (H2S) provided that the sulfur content of the gaseous fuel is well below the applicable limit of 8,000 ppmw.

Q2: Will EPA approve an alternate monitoring plan (AMP) to measure sulfur content of gaseous fuels for turbine GT-2901 at the Milne Point C-Pad?

A2: Yes. EPA approves the enclosed AMP which addresses monitoring and recordkeeping requirements and provides a schedule for sulfur monitoring.

Q3: Will EPA grant a waiver from the gaseous fuel nitrogen monitoring requirement for turbine GT-2901 at the Milne Point C-Pad?

A3: Yes. Contingent upon the use of pipeline quality natural gas, the waiver is granted.

Q4: Will EPA approve a variance from RM 20 testing requirements for the turbines at Milne Point C-Pad and Badami?

A4: EPA approves the proposed preliminary oxygen (O2) traverse procedure which represents a minor deviation from RM 20 given the existing test port configuration and the associated cost to add another port at Badami. However, stack testing conducted with only one point sampling and at only one load level at Milne Point C-Pad represents a major deviation from reference test methods, and EPA Region 10 has not been delegated the authority to either approve or disapprove such major deviations.

Abstract for [0300092]

Q1: Will EPA approve an alternate test method to measure sulfur content of gaseous fuels for the turbines subject to NSPS subpart GG at the Liberty Project?

A1: Yes. EPA approves the alternate test method incorporating “length of tube” methodology to measure hydrogen sulfide (H2S) provided that the sulfur content of the gaseous fuel is well below the applicable limit of 8,000 ppmw.

Q2: Will EPA approve an alternate monitoring plan (AMP) to measure sulfur content of gaseous fuels for the turbines at the Liberty Project?

A2: Yes. EPA approves the enclosed AMP which addresses monitoring and recordkeeping requirements and provides a schedule for sulfur monitoring.

Q3: Will EPA grant a waiver from gaseous fuel nitrogen monitoring requirement for the turbines at the Liberty Project?

A3: Yes. Contingent upon the use of pipeline quality natural gas, the waiver is granted.

Abstract for [0300093]

Q: Will EPA approve an alternative test method under NSPS subpart GG for a gas turbine?

A: Yes. EPA approves use of the port location at 54 inches from the exhaust exit because it is considered reasonable given the exhaust stack configuration, and use of an 8-hole probe in the existing 4 ports as long as the multi-hole probe was designed and conforms to the tests specified in EPA Guideline Document GD-031.

Abstract for [0300094]

Q1: May Benton Public Utility District (PUD) use relative accuracy test audit (RATA) data for a nitrogen oxides (NOX) continuous emission monitoring system (CEMS), specified in 40 CFR part 75, as an alternative for initial compliance testing under NSPS subpart GG?

A1: Yes. EPA approves the request because the measurement differences in collecting data at the sample points allowed in the 40 CFR part 75 CEMS certification procedures for Method 20 sample point selection procedures would not be expected to affect the compliance status under NSPS subpart GG.

Q2: May Benton PUD use the American Society for Testing and Materials (ASTM) Reference Method D3246-81 as an alternative to 40 CFR 60.335(b) and (c) for initial compliance testing for hydrogen sulfide (SO2)?

A2: Yes. The use of ASTM Method D3246-81 is approved for both 40 CFR 60.8 (performance testing) and 60.13 (monitoring) of the General Provisions for sulfur content.

Q3: May Benton PUD receive a waiver of requirement to monitor nitrogen content of natural gas?

A3: Yes. Nitrogen monitoring shall be waived for natural gas as there is no fuel-bound nitrogen.

Q4: May Benton PUD monitor sulfur content of the gas fuel using an analytical method identified under 40 CFR part 75, appendix D?

A4: Yes. This alternate monitoring method can only be used when natural gas is being burned, and it must be in accordance with 40 CFR part 75, appendix D, section 2.3.3.1.

Q5: May Benton PUD monitor sulfur content of the gas fuel on an annual schedule?

A5: Yes. Sulfur monitoring shall be conducted annually for natural gas in accordance with 40 CFR part 75, appendix D, Table D-5. A change to either supplier or the source of fuel shall be reported to EPA within 30 days.

Abstract for [0300095]

Q: Will EPA approve an alternative opacity monitoring method under NSPS subpart Db for two boilers which burn natural gas as primary fuel but will fire distillate oil infrequently?

A: Yes. EPA approves the request because neither boiler may approach a fuel oil capacity factor of 10 percent given the permitted fuel oil consumption limit. After reviewing Pacific Northwest Sugar Company's (PNSC) proposal and the WDOE Order, EPA concludes that an alternative based upon EPA Reference Method 9 is acceptable. PNSC may institute the opacity monitoring alternative subject to the prescribed conditions.

Abstract for [0300096]

Q: Will EPA approve an alternative monitoring plan (AMP) for turbines subject to NSPS subpart GG?

A: Yes. EPA approves the AMP as attached to EPA's determination.

Abstract for [0300097]

Q: Are two BPXA natural gas-fired burners to be located inside a turbine exhaust stack at its Northstar facility on the North Slope of Alaska subject to NSPS subparts Dc and Db?

A: EPA determines that the supplemental burner with heat input capacity of 52.2 MMBtu/hr is subject to NSPS subpart Dc and is also a duct burner as defined in 40 CFR 60.41c, and the fresh-air burner with heat input capacity of 107.5 MMBtu/hr is subject to NSPS subpart Db and is not a duct burner per the definition provided in 40 CFR 60.41b.

Abstract for [0300098]

Q: A company deviated from the testing requirements of EPA Reference Method 1 while conducting a performance test of a rotary dryer. May the performance test results be used to determine compliance with NSPS subpart I?

A: Yes. Given the minor nature of the deviation and the facility's ample margin of compliance, EPA determines that the conducted testing is adequate to determine compliance with the standards. In the future, the company shall utilize a five-by-five sampling matrix per the requirements of Reference Method 1.

Abstract for [0300101]

Q1: Will EPA allow a source to conduct the initial nitrogen oxides (NOX) performance testing at base load only instead of at all four loads under NSPS subpart GG?

A1: Yes. EPA will allow the testing to be conducted at base load only under the following conditions: the turbine burns pipeline quality natural gas, the NOX continuous emission montioring system (CEMS) provides a continuous record of emissions, and the base load is the peak load.

Q2: Will EPA allow the use of data collected during the NOX CEMS Relative Accuracy Test Audit (RATA) as an alternative to performance testing based on Reference Method 20?

A2: Yes. EPA approves the use of data collected using RATA methods in place of Reference Method 20 because this alternative approach has been approved previously in Region 10 and other EPA Regions, and the amount of sampling conducted during a RATA provides enough representative emissions data to determine compliance.

Abstract for [0300102]

Q: Will EPA approve an alternative monitoring plan for natural gas fuel use from the daily monitoring required by 40 CFR 60.48c(g) to a monthly monitoring schedule?

A: Yes. EPA approves the request for a monthly natural gas monitoring schedule because compliance with NSPS subpart Dc can be adequately verified by keeping fuel usage records on a monthly basis if only natural gas and/or low sulfur oil is burned. The approval is conditioned on the source maintaining records that apportion the fuel use to the affected NSPS subpart Dc boiler separate from fuel use at other, non-subpart Dc boilers at the source.

Abstract for [0300103]

Q1: Will EPA allow use of a monthly fuel usage monitoring system as an alternative to the daily monitoring of fuel usage required under 40 CFR 60.48c(g), NSPS subpart Dc?

A1: Yes. EPA approves the request for an alternative fuel usage monitoring system because compliance can be adequately verified by keeping fuel usage records on a monthly basis if only natural gas, propane, and/or low sulfur oil are burned.

Q2: To apportion fuel use for the affected NSPS Subpart Dc boilers, will EPA approve of an indirect method of recording fuel consumption through the use of burner on-times and vendor-provided maximum propane fuel usage rates?

A2: Yes. EPA approves the proposed indirect method of recording fuel consumption rates because fuel consumption is not used directly to determine compliance with an emission limit.

Abstract for [0300104]

Q: Should the heat input rate for an NSPS subpart D steam generating unit be based on the peak one-hour rate at which it is capable of operating, or on a rate that takes into account the test period for demonstrating compliance and similar definition language in 40 CFR part 60, subpart Db?

A: The input rate of the steam generating unit should be based on a 24-hour full load demonstration measuring peak Btu/hour heat input after achieving steady state conditions. Maximum heat input capacity is “the ability of a steam generating unit to combust a stated maximum amount of fuel on a steady state basis, as determined by the physical design and characteristics of the steam generating unit.” The facility in question has units that operate at an input rate of 242.55 MMBtu/hr, even though the units are capable of reaching a peak one-hour rate in excess of 250 MMBtu/hr. Thus, the provisions of 40 CFR 60.40 under NSPS subpart D do not apply.

Abstract for [0300105]

Q1: What is the affected facility for purposes of NSPS subpart GG where the source has a package unit that consists of separate gas and reactor equipment components?

A1: The gas turbine affected facility for purposes of NSPS subpart GG is the “Mainline Unit Package,” which is comprised of a gas component that produces the high-energy exhaust gas flow and a reaction component that receives the exhaust gas flow and is made up of the diffuser/bladed wheel and shaft.

Q2: If the gas component of the “Mainline Unit Package” turbine is removed routinely for maintenance and replaced by an identical model, does this rotation constitute a modification of the affected facility?

A2: If the rotation of the gas components increases emissions, the source must review the replacement to determine if the Mainline Unit Package is subject to NSPS subpart GG pursuant to the modification provisions. The source also must review the rotation of the gas components to determine whether the replacement of a gas component exceeds 50 percent of the fixed capital cost of the “Mainline Unit Package” which would constitute a “reconstruction” under 40 CFR 60.15.

Q3: Does the addition of rim cooling to a “Mainline Unit Package” result in a modification that would make the turbine an affected facility under NSPS subpart GG?

A3: Based on the information presented by the source, the addition of rim cooling does result in an increase in emissions of air pollutants, but this increase occurs as a result of an increase in production rate. Under the NSPS modification provisions, increases in production rate that increase emissions will trigger applicability only if the increased production rate requires a capital expenditure. EPA believes that in this case a capital expenditure may have occurred, but the source may evaluate and provide further documentation to show that no capital expenditure was required.

Abstract for [0300106]

Q: Will EPA approve a variance to the daily fuel monitoring requirement of 40 CFR 60.48c(g) to a monthly monitoring schedule for a boiler subject to NSPS subpart Dc?

A: Yes. EPA approves the request for a monthly monitoring schedule of fuel usage for the boiler because compliance can be adequately verified by keeping fuel usage sulfur oil are burned. The approval is conditioned on the source maintaining records that apportion the fuel use to the affected subpart Dc boiler separate from fuel use at other, non-subpart Dc boilers at the source. The information provided by the source indicates that at least one other boiler is at the facility, and no regulatory determinations about that boiler were requested or made in this determination.

Abstract for [0300107]

Q: Will EPA approve an alternative monitoring plan (AMP) for two NSPS subpart Dc boilers so that the recording and maintenance of the amount of fuel combusted can be performed on a monthly basis instead of daily?

A: Yes. EPA approves the request to reduce fuel monitoring frequency from daily to monthly because compliance can be adequately verified by keeping fuel usage records on a monthly sulfur oil are burned as defined at 40 CFR 60.41c. The approval is conditioned on the source maintaining records that apportion the fuel use between the two affected subpart Dc boilers.

Abstract for [0300108]

Q: Will EPA allow a variance to the daily fuel monitoring requirement of 40 CFR 60.48c so that the source can record natural gas usage for two NSPS subpart Dc boilers on a monthly basis using natural gas fuel bills?

A: Yes. EPA approves the alternative method requested because compliance can be adequately verified by keeping fuel usage records on a monthly basis if only natural gas and/or low sulfur oil are burned. EPA also approves the method proposed by the source to apportion the fuel usage between the two boilers.

Abstract for [0300109]

Q: Will EPA concur in an interpretation that a source can use vendor receipts to document the fuel oil combusted in an NSPS subpart Db boiler?

A: Yes. EPA concurs with the monitoring approach because fuel receipts from fuel vendors is documentation in compliance with 40 CFR 60.42b(j), 60.45b(c), (d), and (j), 60.47b(a) and (b), and 60.49b(r).

Abstract for [0300111]

Q: Will EPA approve a periodic monitoring plan of hydrogen sulfide (H2S) concentration in fuel gas as an alternative monitoring plan (AMP) to the required continuous monitoring system?

A: Yes. EPA accepts the AMP because it provides adequate assurance that the H2S concentration in the fuel gas will be less than the NSPS subpart J emission limitation.

Abstract for [0300112]

Q: Will EPA approve a waiver of the fuel gas nitrogen monitoring of stationary gas turbines required by 40 CFR 60.334?

A: Yes. EPA approves the waiver of natural gas nitrogen monitoring since only pipeline-quality natural gas is used, which is virtually free of fuel-bound nitrogen. The waiver is subject to specific conditions enumerated in EPA's determination letter.

Abstract for [0300113]

Q: Will EPA accept an alternative monitoring plant to reduce the recording of fuel usage in two NSPS subpart Dc steam generating boilers from daily to monthly?

A: Yes. EPA approves the request to reduce the recording of fuel usage because compliance can be adequately verified by keeping fuel usage records on a monthly basis if only natural gas and/or low sulfur oil are burned. EPA also provides an acceptable method for apportioning the fuel usage between the two affected boilers.

Abstract for [0300114]

Q1: Will EPA approve keeping records of natural gas fuel usage on a monthly basis for NSPS subpart Dc boilers, rather than on a daily basis as required by 40 CFR 60.48c(g)?

A1: Yes. EPA approves the request to reduce fuel gas usage recordkeeping because compliance can be adequately verified by keeping fuel usage records on a monthly basis if only natural gas and/or low sulfur oil are burned.

Q2: Will EPA approve of an apportionment method to estimate the amount of natural gas used between boilers where more than one boiler is attached to a fuel gas meter?

A2: Yes. EPA approves the request for an apportionment method to divide each boiler's design heat input capacity by the total design input capacities of all the natural gas-fired combustion units. This method is consistent with the recordkeeping requirement in 40 CFR 60.48c(g) that applies to each separate affected facility (i.e., boiler) regulated under NSPS subpart Dc.

Abstract for [0300115]

Q1: Will EPA accept the waiver of the nitrogen monitoring requirement for owners and operators of combustion turbines subject to NSPS subpart GG without intermediate bulk storage for fuel?

A1: Yes. EPA approves the waiver because this fuel does not contain fuel-bound nitrogen, and any free nitrogen that it may contain does not contribute appreciably to the formation of nitrogen oxides emissions.

Q2: Will EPA approve an alternative custom fuel monitoring plan for gas-fired combustion turbines?

A2: Yes. EPA approves the request for an alternative fuel monitoring plan because it is consistent with EPA's August 1987 fuel monitoring policy which approves the reduction of monitoring from a daily to a semiannual basis.

Q3: Will EPA accept the replacement of the multiple load-testing requirements with a single load test while operating the combustion turbine at maximum load conditions?

A3: Yes. EPA approves the waiver from multiple load testing because for combustion turbines equipped with nitrogen oxides (NOX) continuous emission monitoring system (CEMS), the monitors will provide credible evidence regarding the unit's compliance status on a continuous basis following the initial test.

Q4: Will EPA accept the waiver of the requirement to report NOX performance test results on an ISO-corrected basis?

A4: Yes. EPA approves the waiver because the level of compliance assurance provided in this case is sufficient.

Abstract for [0300116]

Q: Are kilns heated using indirect fired natural gas burners subject to 40 CFR 60.40c (NSPS subpart Dc)?

A: No. The kilns are not subject to subpart Dc because they do not transfer heat from the combustion gases to a heat transfer medium across a physical barrier as a steam generating unit would.

Abstract for [0300117]

Q: Does NSPS subpart GG apply to quality control (QC) testing operations at Pratt & Whitney's Willgoos facility?

A: No. The GG8 engines undergoing QC testing are not subject to NSPS subpart GG. The determination is based on several unique factors cited in the July 25, 2002 letter and is therefore limited to the quality control (QC) testing of the GG8 engines at Willgoos.

Abstract for [0300118]

Q: Will EPA approve recording fuel use on a monthly basis and reporting it on an annual basis for a facility with a pipeline natural gas-fired auxiliary boiler under NSPS subpart Dc?

A: Yes. Because none of the emission standards of Subpart Dc apply to units fired with natural gas, fuel usage records are kept to verify the type of fuel combusted. However, it is necessary to keep separate records of the amount of natural gas burned in each such boiler.

Abstract for [0300119]

Q1: Can a facility with combined cycle turbine units burning only pipeline natural gas waive the daily fuel nitrogen content monitoring requirements of 40 CFR 60.334(b) and 40 CFR 60.335?

A1: Yes. The daily fuel nitrogen monitoring requirements can be waived based on the National Policy, dated August 14, 1987, which allows EPA approval of NSPS subpart GG custom fuel monitoring schedules on a case-by-case basis, and the knowledge that pipeline quality natural gas does not contain fuel-bound nitrogen.

Q2: Can the facility waive the daily fuel sulfur content monitoring requirements of 40 CFR 60.334(b) and in lieu thereof use 40 CFR part 75, appendix D, section 2.3.1.4, “Documentation that a Fuel is Pipeline Natural Gas,” and (from 40 CFR part 75, appendix D, section 2.3.1.1) a default SO2 emission rate of 0.0006 lb./MMbtu?

A2: Yes. Based on National Policy dated August 14, 1987 for stationary gas turbines which combust pipeline quality natural gas as fuel. However, the facility is required to report excess SO2 emissions under 40 CFR 60.7(c).

Q3: Can this facility waive the sulfur oxides (SO2) compliance testing requirements of 40 CFR 60.335 and in lieu thereof use 40 CFR part 75, appendix D, section 2.3.1.4 “Documentation that a Fuel is Pipeline Natural Gas” and (from 40 CFR part 75, appendix D, section 2.3.1.1) a default SO2 emission rate of 0.0006 lb./MMbtu?

A3: Yes, provided the facility successfully documents that they are using pipeline natural gas following 40 CFR part 75, appendix D, section 2.3.1.4, “Documentation that a Fuel is Pipeline Natural Gas.”

Q4: Rather than demonstrating nitrogen oxides (NOX) emission limit requirements for the combustion turbines in International Standard Organization (ISO) ambient conditions as required in 40 CFR 60.335(c)(1), may the facility demonstrate compliance with an hourly limit of 3.5 ppmvd at 15 percent oxygen?

A4: Yes. The facility proposes maintaining NOX emission rates in ppmvd with a limit of 3.5 ppmvd at 15 percent oxygen, which is more than an order of magnitude below the NSPS subpart GG standard. EPA approves this request since it ensures compliance with the applicable standard under all reasonably expected ambient conditions. However, the facility must maintain records of ambient temperature, combustor inlet pressure and humidity to allow an ISO correction.

Q5: Can this facility waive the requirement to conduct four load Reference Method 20 sampling, and in lieu thereof use NOX continuous emission monitoring system Relative Accuracy Test Audit (RATA) data for demonstrating compliance with the 3.5 ppmvd limit?

A5: Yes, because demonstration of initial compliance with the hourly limit of 3.5 ppmvd at 15 percent oxygen ensures compliance with the applicable standard under all reasonably expected ambient conditions.

Q6: Does EPA concur that emissions reporting under 40 CFR 60.334(c) is not applicable since the combustion turbines at this facility do not utilize water injection to control NOX emissions? Will EPA accept excess emissions reporting in accordance with the Plan Approval in lieu of reporting under 40 CFR 60.7(c)?

A6: No. Although EPA agrees the parameters used to determine excess NOX emissions in 40 CFR 60.334(c), fuel-bound nitrogen and water-to-fuel ratio, are not appropriate in this instance, the facility will operate NOX CEMS in accordance with 40 CFR part 75 and provide reports under 40 CFR 60.7(c).

Q7: Will EPA allow testing and monitoring for all emissions to be conducted in the stack after the heat recovery steam generator (HRSG) and selective catalytic reduction (SCR) systems rather than for the NSPS Subpart Da duct burners alone as stated in 40 CFR 60.40a(b), since there are no acceptable testing locations upstream and downstream of the duct burners?

A7: No. An alternative method is unnecessary since there are testing options already provided in the current regulation that allow sampling the combined effluent. These options are explained in the determination letter.

Q8: For the duct burners subject to NSPS subpart Da, can this facility waive the SO2 compliance testing requirements of 40 CFR 60.46a and 60.48a and in lieu thereof use 40 CFR part 75, appendix D, section 2.3.1.4, “Documentation that a Fuel is Pipeline Natural Gas,” and (from 40 CFR part 75, appendix D, section 2.3.1.1) a default emission rate of 0.0006 lb SO2/MMbtu?

A8: Yes. EPA approves your request to use 40 CFR part 75, appendix D, section 2.3.1.4 and section 2.3.1.1 in lieu of 40 CFR 60.46a and 60.48a compliance testing to demonstrate compliance with the 40 CFR 60.43a standard, because SO2 emissions generated by burning pipeline natural gas should be at least one order of magnitude below the standard in NSPS subpart Da.

Q9: Will EPA approve use of the reporting and recordkeeping requirements for SO2 emissions in 40 CFR part 75 in lieu of the requirements in 40 CFR 60.49a?

A9: No. The facility must satisfy the reporting and recordkeeping requirements for SO2 emissions in 40 CFR 60.49a.

Q10: Will EPA approve use of the initial compliance demonstration with a NOX limit of 3.5 ppmvd at 15 percent oxygen to demonstrate compliance with the 1.6 lb./mw-hr standard listed in 40 CFR 60.44a(d)(1)?

A10: Yes, because the proposed alternative is more than an order of magnitude more stringent than the NSPS subpart GG standard.

Q11: In the event the Administrator requests demonstration of the lb./mw-hr limit at a later date, may the facility use the 40 CFR part 75 monitoring records to reproduce emission rates?

A11: Yes, the 40 CFR part 75 monitoring records will be sufficient to reproduce NOX emission rates.

Q12: Can the facility use the NOX reporting requirements in their Plan Approval to meet the NOX reporting requirements of 40 CFR 60.49a and 60.7(c).

A12: No. The facility must satisfy the reporting requirements for NOX emissions in 40 CFR 60.49a and 60.7(c).

Abstract for [0300120]

Q1: Is an internal combustion (IC) engine considered an “enclosed combustor” as defined in NSPS subpart WWW?

A1: In the preamble to the 1991 Federal Register proposal of the Landfill NSPS/Emissions Guidelines (56 FR 24468, 5/30/91), EPA included a listing of enclosed combustion devices, which also included IC engines. Therefore, the IC engines at the Ridgewood Power plant located at the Central Landfill are considered enclosed combustors.

Q2: If the IC engines are enclosed combustors subject to NSPS subpart WWW, will EPA approve an alternative parameter monitoring plan for the engines?

A2: Yes, EPA will approve the plan, as provided for and enumerated in EPA's determination letter.

Abstract for [0300121]

Q: What constitutes a “treatment system” according to NSPS subpart WWW, and does the treatment system at Ridgewood Power Associates in Johnston, Rhode Island satisfy the requirements of 40 CFR 60.752?

A: The pretreatment system employed by Ridgewood Power does meet EPA's criteria for a treatment system as defined under 40 CFR 60.752(b)(2)(iii)(C). Treatment of the landfill gas in this manner is a means of compliance with the gas control requirements of the NSPS. EPA Region 1 concurs that the IC engines combusting the treated landfill gas are not subject to the requirements of 40 CFR 60.752(b)(2)(iii)(B).

Abstract for [0300122]

Q: As an alternative to installing and certifying a COMS, can Penreco perform Reference Method 9 for visible emissions observations whenever oil is burned in an NSPS subpart Dc boiler?

A: Yes. Alternative opacity monitoring can be performed in lieu of installing and certifying a COMS, however, specific procedures outlined in EPA's response must be followed to ensure compliance with this approval. The procedures are consistent with those that EPA has approved for other NSPS subpart Dc boilers that burn gas as a primary fuel and that have an annual capacity factor of 10 percent or less for oil when used as a backup fuel.

Abstract for [0300123]

Q: Is coke oven gas considered equivalent to coal under NSPS subpart Db?

A: Yes. As defined in NSPS subpart Db, coal includes coal-derived synthetic fuels. Since coke oven gas is a synthetic fuel derived from coal, it is considered equivalent to coal.

Abstract for [0300124]

Q: When determining whether a piece of equipment is in light liquid service or heavy liquid service under NSPS subpart VV, should the vapor pressure of water be considered?

A: No. The vapor pressure of water is not considered. Applicability of NSPS subpart VV is based on the content of VOC in the process fluid and the volatility of the VOC components.

Abstract for [0300125]

Q: Is the Janesville Disposal Facility (JDF), which is governed by a federal consent decree, and for which applicable or relevant and appropriate requirements (ARARs) apply pursuant to the Comprehensive Environmental Response, Compensation, and Liability Act of 1990 (CERCLA), also subject to the Federal Plan at 40 CFR part 62?

A: Yes. The municipal solid waste landfill is affected by the EPA's Emission Guidelines for municipal solid waste landfills, and the Federal Plan promulgated thereunder at 40 CFR part 62, because it is adjacent to and part of a facility that is subject to the Federal Plan. However, it is not subject to specific provisions of the Federal Plan. This is because the ARARs established under CERCLA govern the landfill's emissions controls. Moreover, the ARARs for the Superfund site do not include administrative requirements such as reporting; hence, EPA will not require an initial design capacity report for the JDF portion of the landfill.

Abstract for [0300126]

Q: Does the replacement of an individual coal conveyor constitute construction or reconstruction of an affected facility or must one view the conveyors collectively as a group when determining if the replacement or construction of an individual conveyor constitutes the construction or reconstruction of an affected facility?

A: Each conveyor must be evaluated individually to determine if the replacement of a single conveyor creates an affected facility subject to 40 CFR part 60, subpart Y. Based on the wording of the regulation, each conveyor is viewed individually. This determination was also based on previous determinations concerning the applicability of NSPS subpart Y.

Abstract for [0300127]

Q1: Does the replacement of an individual coal conveyor constitute construction or reconstruction of an affected facility or must one view the conveyors collectively as a group when determining if the replacement or construction of an individual conveyor constitutes the construction or reconstruction of an affected facility?

A1: Each conveyor must be evaluated individually to determine if the replacement of a single conveyor creates an affected facility subject to 40 CFR part 60, subpart Y. Based on the wording of the regulation, each conveyor is viewed individually. This determination confirms an earlier determination (refer to determination 0300126 on this ADI update) and was also based on previous determinations concerning the applicability of NSPS subpart Y.

Q2: When evaluating applicability of NSPS subpart Y to coal processing and conveying equipment at a coal preparation plant, does one include all coal preparation equipment as a whole (system) or does one view each piece of processing and conveying equipment as a separate affected facility?

A2: The NSPS General Provisions in subpart A define affected facility as any apparatus to which a standard is applicable. In general, when EPA seeks to regulate a process as a whole, the regulation will refer to a system or facility or will use the term “all” when describing the equipment that is part of the affected facility. Because NSPS subpart Y defines coal processing and conveying equipment to be any machinery and because EPA did not identify coal processing and conveying equipment as a system, the affected facility is each individual coal conveyor.

Dated: January 30, 2004.
Lisa Lund,
Acting Director, Office of Compliance.

[FR Doc. 04-3716 Filed 2-19-04; 8:45 am]

BILLING CODE 6560-50-P